DEPARTMENT OF JUSTICE

Drug Enforcement Administration

Manufacturer of Controlled Substance; Notice of Registration

By Notice dated July 13, 2001, and published in the Federal Register on July 23, 2001, (66 FR 38321), High Standard Products Corp., 14441 Beach Boulevard, #225, Westminster, California 92683, made application to the Drug Enforcement Administration (DEA) to be registered as a bulk manufacturer of the basic classes of controlled substances listed below:

Drug | Schedule
Methaqualone (2565) | I
Lysergic acid diethylamide (7315) | I
Tetrahydrocannabinols (7370) | I
3,4-Methylenedioxyamphetamine (7400) | I
3,4-Methylenedioxy-N-ethylamphetamine (7404) | I
3,4-Methylenedioxymethamphetamine (7405) | I
4-Methoxyamphetamine (7411) | I
Heroin (9200) | I
3-Methylfentanyl (9813) | I
Amphetamine (1100) | II
Methamphetamine (1105) | II
Secobarbital (2315) | II
Phencyclidine (7471) | II
Cocaine (9041) | II
Codeine (9050) | II
Hydromorphone (9150) | II
Diphenoxylate (9170) | II
Hydrocodone (9193) | II
Methadone (9250) | II
Morphine (9300) | II
Fentanyl (9801) | II

The firm plans to manufacture analytical reference standards.

No comments or objections have been received. DEA has considered the factors in Title 21, United States Code, Section 823(a) and determined that the registration of High Standard Products Corp. to manufacture the listed controlled substances is consistent with the public interest at this time. DEA has investigated High Standard Products Corp. to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed above is granted.

Dated: February 19, 2002.
Laura M. Nagel,
Deputy Assistant Administrator, Office of Diversion Control, Drug Enforcement Administration.

[FR Doc. 02-5794 Filed 3-11-02; 8:45 am]

BILLING CODE 4410-09-M